DEPARTMENT OF THE TREASURY

Fiscal Service

Surety Companies Acceptable on Federal Bonds-Termination: Developers Insurance Company

AGENCY: Financial Management Service, Fiscal Service, Department of the Treasury.

ACTION: Notice.

SUMMARY: This is Supplement No. 19 to the Treasury Department Circular 570; 2000 Revision, published June 30, 2000 at 65 FR 40868.

FOR FURTHER INFORMATION CONTACT: Surety Bond Branch at (202) 874-6765.

SUPPLEMENTARY INFORMATION: Developers Insurance Company, a California corporation, has formally merged with and into Developers Surety and Indemnity Company, an Iowa corporation, effective December 29, 2000. Developers Insurance Company was last listed as an acceptable surety on Federal bonds at 65 FR 40878, June 30, 2000, and Developers Surety and Indemnity Company was last listed as an acceptable surety on Federal bonds at 65 FR 40878, June 30, 2000.

Notice is hereby given that the Certificate of Authority issued by the Treasury to Developers Insurance Company, under the United States Code, Title 31, sections 9304-9308, to qualify as an acceptable surety on Federal bonds is hereby terminated. With respect to any bonds currently in force with Developers Insurance Company, bond-approving officers may let such bonds run to expiration and need not secure new bonds.

A new Certificate of authority as an acceptable surety on Federal bonds, dated today, is hereby issued under sections 9304 to 9308 of Title 31 of the United States Code, to Developers Surety and Indemnity Company, Des Moines, Iowa. This new certificate replaces the Certificate of Authority issued to the company prior to the merger. A revised underwriting limitation of $1,506,000 is now established for Developers Surety and Indemnity Company.

Certificates of Authority expire on June 30 each year, unless revoked prior to that date. The Certificates are subject to subsequent annual renewal as long as the companies remain qualified (31 CFR part 223). A list of qualified companies is published annually as of July 1 in Treasury Department Circular 570, with details as to underwriting limitations, areas in which licensed to transact surety business and other information.

The Circular may be viewed and downloaded through the Internet at http://www.fms.treas.gov/c570/index.html. A hard copy may be purchased from the Government Printing Office (GPO) Subscription Service, Washington, DC, Telephone (202) 512-1800. When ordering the Circular from GPO, use the following stock number: 048-000-0536-5.

Questions concerning this Notice may be directed to the U.S. Department of the Treasury, Financial Management Service, Financial Accounting and Services Division, Surety Bond Branch, 3700 East-West Highway, Room 6A04, Hyattsville, MD 20782.

Dated: June 22, 2001.
Jennifer Fitzmaurice,
Acting Director, Financial Accounting and Service Division, Financial Management Service.

[FR Doc. 01-18298 Filed 7-20-01; 8:45 am]

BILLING CODE 4810-35-M